ENVIRONMENTAL PROTECTION AGENCY

40 CFR Parts 52

[EPA-R05-OAR-2007-1085; FRL-8519-2]

Approval and Promulgation of State Implementation Plans; Ohio: Proposed Approval of Revised Oxides of Nitrogen (NOX), Phase II, and Revised NOX Trading Rule

AGENCY: Environmental Protection Agency (EPA).

ACTION: Proposed rule.

SUMMARY: EPA is proposing approval of a revision to the Ohio State Implementation Plan (SIP) submitted by letter on June 16, 2005. This revision addresses the requirements of EPA's NOX SIP Call which requires further reductions in NOX emissions based on cost-effective control measures for large internal combustion engines. The revision also addresses some revisions to the State's NOX SIP Call trading program. EPA is proposing to determine that the Ohio SIP revision satisfies the requirements for Phase II of the NOX SIP Call and the NOX SIP Call trading program because, when implemented, these will meet Ohio's emission reduction requirements under Phase II of the NOX SIP Call.

DATES: Comments must be received on or before March 5, 2008.

ADDRESSES: Submit your comments, identified by Docket ID No. EPA-R05-OAR-2007-1085, by one of the following methods:

1. www.regulations.gov: Follow the on-line instructions for submitting comments.

2. E-mail: mooney.john@epa.gov.

3. Fax: (312) 886-5824.

4. Mail: “EPA-R05-OAR-2007-1085”, John M. Mooney, Chief, Criteria Pollutant Section, Air Programs Branch (AR-18J), U.S. Environmental Protection Agency, 77 West Jackson Boulevard, Chicago, Illinois 60604.

5. Hand Delivery or Courier: John M. Mooney, Chief, Criteria Pollutant Section, Air Programs Branch (AR-18J), U.S. Environmental Protection Agency, 77 West Jackson Boulevard, Chicago, Illinois 60604. Such deliveries are only accepted during the Regional Office's normal hours of operation. The Regional Office's official hours of business are Monday through Friday, 8:30 to 4:30, excluding federal holidays.

Please see the direct final rule which is located in the Rules section of this Federal Register for detailed instructions on how to submit comments.

FOR FURTHER INFORMATION CONTACT: John Paskevicz, Engineer, Criteria Pollutant Section, Air Programs Branch (AR-18J), Environmental Protection Agency, Region 5, 77 West Jackson Boulevard, Chicago, Illinois 60604, (312) 886-6084, paskevicz.john@epa.gov.

SUPPLEMENTARY INFORMATION: In the Final Rules section of this Federal Register, EPA is approving the State's SIP submittal as a direct final rule without prior proposal because the Agency views this as a non-controversial submittal and anticipates no adverse comments. A detailed rationale for the approval is set forth in the direct final rule. If no adverse comments are received in response to this rule, no further activity is contemplated. If EPA receives adverse comments, EPA will withdraw the direct final rule and will address all public comments received in a subsequent final rule based on this proposed rule. EPA will not institute a second comment period. Any parties interested in commenting on this action should do so at this time. Please note that if EPA receives meaningful adverse comment on an amendment, paragraph, or section of this rule and if that provision may be severed from the remainder of the rule, EPA may adopt as final those provisions of the rule that are not the subject of an adverse comment. For additional information, see the direct final rule which is located in the Rules section of this Federal Register.

Dated: January 11, 2008.
Gary Gulezian,
Acting Regional Administrator, Region 5.

[FR Doc. E8-1799 Filed 2-1-08; 8:45 am]

BILLING CODE 6560-50-P